DEPARTMENT OF COMMERCE

National Oceanic and Atmospheric Administration

50 CFR Part 635

[I.D. 052004D]

Atlantic Highly Migratory Species; Shark Fishing Season

AGENCY: National Marine Fisheries Service (NMFS), National Oceanic and Atmospheric Administration (NOAA), Commerce.

ACTION: Fishing season notification.

SUMMARY: NMFS notifies eligible participants of the opening and closing dates for the commercial Atlantic large coastal, small coastal, and pelagic shark fisheries for the 2004 second semiannual fishing season.

DATES: The fishery opening for LCS in the Gulf of Mexico region is effective July 1, 2004, through 11:30 p.m., local time, August 15, 2004, and the closure is effective 11:30 p.m., local time, August 15, 2004, through December 31, 2004.

The fishery opening for large coastal sharks (LCS) in the South Atlantic region is effective July 1, 2004, through 11:30 p.m., local time, September 30, 2004, and the closure is effective 11:30 p.m., local time, September 30, 2004, through December 31, 2004.

The fishery opening for small coastal sharks (SCS) in all regions, pelagic sharks, blue sharks, and porbeagle sharks is effective July 1, 2004, through December 31, 2004, unless otherwise modified or superseded through publication of a closure notification in the Federal Register.

FOR FURTHER INFORMATION CONTACT: Karyl Brewster-Geisz at (phone) 301-713-2347 or (fax) 301-713-1917.

SUPPLEMENTARY INFORMATION: The Atlantic shark fisheries are managed under the authority of the Magnuson-Stevens Fishery Conservation and Management Act (Magnuson-Stevens Act). The Fishery Management Plan for Atlantic Tunas, Swordfish, and Sharks (HMS FMP), finalized in 1999, and Amendment 1 to the HMS FMP, finalized in 2003, are implemented by regulations at 50 CFR part 635.

Available Quota

On December 24, 2003 (68 FR 74746), NMFS announced that the 2004 annual landings quotas for LCS and SCS were established at 1,017 metric tons (mt) dressed weight (dw) (2,242,078.2 lb dw) for LCS and 454 mt dw (1,000,888.4 lb dw) for SCS. The 2004 quota levels for pelagic, blue, and porbeagle sharks were established at 488 mt dw (1,075,844.8 lb dw), 273 mt dw (601,855.8 lb dw), and 92 mt dw (202,823.2 lb dw), respectively. These quotas were split equally between the two 2004 fishing seasons.

The LCS semiannual quotas were further split, consistent with § 635.27(b)(1)(iii), between three fishing regions. Without accounting for any under- or overharvests, the 2004 regional semiannual LCS quota levels are: Gulf of Mexico - 213.6 mt dw (470,902.6 lb dw); South Atlantic - 274.6 mt dw (605,383.2 lb dw); and North Atlantic - 20.3 mt dw (44,753.4 lb dw).

On May 13, 2004 (69 FR 26540), NMFS published a proposed rule that would change the North Atlantic LCS quota split for the semiannual seasons from an equal split among the seasons to a 20/80 split between the first and second seasons, respectively. The comment period on that proposed rule closed on May 28, 2004. Thus, the LCS semiannual quota stated above for this region may change. As such, NMFS will announce the LCS closing date for the North Atlantic region when the final rule publishes, which is expected to occur before the start of the fishing season on July 1, 2004.

In 2003, the second semiannual fishing season quota for ridgeback LCS was set at 424 mt dw (934,750.4 lb dw) and for non-ridgeback LCS was set at 498 mt dw (1,097,890.8 lb dw). As of February 2004, approximately 338 mt dw (745,155 lb dw) ridgeback LCS and 408 mt dw (899,477 lb dw) non-ridgeback LCS had been reported landed. This constitutes an underharvest for the 2003 second semiannual fishing season for the entire LCS complex of approximately 175.7 mt dw (387,348.2 lb dw). This underharvest, consistent with § 635.27(b)(1)(iii) and (vi), will be split between the regions as follows: Gulf of Mexico - 73.8 mt dw (162,699.5 lb dw); South Atlantic - 94.9 mt dw (209,216.5 lb dw); and North Atlantic - 7 mt dw (15,432.2 lb dw). Thus, the 2004 second semiannual fishing season LCS quotas for the Gulf of Mexico and South Atlantic regions are 287.4 mt dw (633,602 lb dw) and 369.5 mt dw (814,599.7 lb dw), respectively. Additionally, the North Atlantic region will have 7 mt dw (15,432.2 lb dw) added to its semiannual quota once the above-mentioned proposed rule is finalized.

As with the LCS semiannual quotas, the SCS semiannual quotas were split, consistent with § 635.27(b)(1)(iv), among three fishing regions. Without accounting for any under- or overharvests, the 2004 regional semiannual SCS quota levels are: Gulf of Mexico - 9.1 mt dw (20,061.9 lb dw); South Atlantic - 188.4 mt dw (415,346.6 lb dw); and North Atlantic - 29.5 mt dw (65,035.7 lb dw).

The 2003 second semiannual fishing season quota for SCS was established at 163 mt dw (359,349.8 lb dw). As of February 2004, approximately 134.3 mt dw (296,077.8 lb dw) had been reported landed. This constitutes an underharvest for the 2003 second semiannual fishing season of approximately 28.7 mt dw (63,272 lb dw). This underharvest, consistent with § 635.27(b)(1)(iv) and (vi), will be split among the regions as follows: Gulf of Mexico - 1.2 mt dw (2,645.5 lb dw); South Atlantic - 23.8 mt dw (52,469.5 lb dw); and North Atlantic - 3.7 mt dw (8,157 lb dw). Thus, the SCS regional quotas for the 2004 second semiannual season are: Gulf of Mexico - 10.2 mt dw (22,486.9 lb dw); South Atlantic - 212.2 mt dw (467,816.1 lb dw); and North Atlantic - 33.2 mt dw ( 73,192.7 lb dw).

The 2004 second semiannual quotas for pelagic, blue, and porbeagle sharks are established at 244 mt dw (537,922.4 lb dw), 136.5 mt dw (300,927.9 lb dw), and 46 mt dw (101,411.6 lb dw), respectively. These are the same quotas that were established for the 2003 second semiannual season. As of February 2004, approximately 64 mt dw (141,094.4 lb dw) had been reported landed in the second 2003 semiannual fishing season in total for pelagic, blue, and porbeagle sharks combined. Additionally, data indicate that in 2002, 68 mt whole weight (ww) (149,912.8 lb ww) of blue sharks were discarded dead in the pelagic longline fishery. Thus, the pelagic shark quota does not need to be reduced consistent with § 635.27(b)(1)(vi).

NMFS will take appropriate action before January 1, 2005, in order to determine and announce the 2005 first trimester quotas for the Atlantic shark fisheries, consistent with § 635.27(b)(1)(iii).

Fishing Season Notification

The 2004 second semiannual commercial fishing season for LCS, SCS, pelagic sharks, blue sharks, and porbeagle sharks in all regions in the western north Atlantic Ocean, including the Gulf of Mexico and the Caribbean Sea, will open July 1, 2004. To estimate the closure dates of the LCS fisheries, NMFS calculated the average reported catch rates for each region from the second seasons from recent years (2000, 2001, 2002, and 2003) and used these average catch rates to estimate the amount of available quota that would likely be taken by the end of each dealer reporting period. Because state landings after a Federal closure are counted against the quota, NMFS also calculated the average amount of quota reported received after the Federal closure dates of the years used to estimate catch rates. Additionally, pursuant to § 635.5 (b)(1), shark dealers must report any sharks received twice a month: those sharks received between the first and 15th of every month must be reported to NMFS by the 25th of that same month and those received between the 16th and the end of the month must be reported to NMFS by the 10th of the following month. Thus, in order to simplify dealer reporting and aid in managing the fishery, NMFS will close the Federal LCS fishery on either the 15th or the end of any given month.

Based on average LCS catch rates in recent years in the Gulf of Mexico region, approximately 78 percent of the available LCS quota would likely be taken by the second week of August and 97 percent of the available LCS quota would likely be taken by the end of August. Dealer data also indicate that, on average, approximately 26 mt dw (57,319.6 lb dw) of LCS have been reported received by dealers after a Federal closure. This is approximately 9 percent of the available quota. Thus, if catch rates in 2004 are similar to the average catch rates from 2000 to 2003, 87 percent (78 + 9 percent) of the quota could be caught over the entire semiannual season if Federal waters are closed during the second week of August. If the fishery remains open until the end of August, the quota would likely be exceeded (97 + 9 percent = 106 percent). Accordingly, the Assistant Administrator for Fisheries (AA) has determined that the Gulf of Mexico LCS quota for the second 2004 semiannual season will likely be attained by August 15, 2004. Thus, the Gulf of Mexico LCS fishery will close on August 15, 2004, at 11:30 p.m. local time.

Based on average LCS catch rates in recent years in the South Atlantic region, approximately 79 percent of the available LCS quota would likely be taken by the end of September and 87 percent would likely be taken by the second week of October. Dealer data also indicate that, on average, approximately 46 mt dw (101,411.6 lb dw) of LCS are reported received by dealers after a Federal closure. This is approximately 12 percent of the available quota. Thus, if catch rates in 2004 are similar to the average catch rates from 2000 to 2003, 91 percent (79 + 12 percent) of the quota could be caught over the entire semiannual season if Federal waters are closed by the end of September. If the fishery remains open until the second week of October, the quota might be fully taken (87 + 12 = 99 percent). However, in recent years, the LCS fishery has not been open for the entire month of September. As such, the catch rate information for this month is not as reliable as the catch rate information available during the months that the fishery is generally open. As a result, NMFS feels that a more precautionary approach to ensure that the quota is not exceeded is necessary. If the quota is not fully taken, the underharvest will added to the quota in the 2005 fishing year, consistent with § 635.27(b)(1)(vi). Accordingly, the AA has determined that the South Atlantic LCS quota for the second 2004 semiannual season will likely be attained by September 30, 2004. Thus, the South Atlantic LCS fishery will close on September 30, 2004, at 11:30 p.m. local time.

When quotas are projected to be reached for the SCS, pelagic, blue, or porbeagle shark fisheries, the AA will file notification of closure at the Office of the Federal Register at least 14 days before the effective date, § 635.28(b)(2).

During a closure, retention of, fishing for, possessing or selling LCS are prohibited for persons fishing aboard vessels issued a limited access permit under 50 CFR 635.4. The sale, purchase, trade, or barter of carcasses and/or fins of LCS harvested by a person aboard a vessel that has been issued a permit under 50 CFR 635.4 are prohibited, except for those that were harvested, offloaded, and sold, traded, or bartered prior to the closure and were held in storage by a dealer or processor.

Classification

Pursuant to 5 U.S.C. 553(b)(B), the Assistant Administrator for Fisheries (AA), NOAA, finds that providing for prior notice and opportunity for public comment for this action is impracticable and contrary to the public interest. Per the regulations, this notice must be filed with the Office of the Federal Register by June 1, 2004, to provide fishermen sufficient time to prepare for the season opening. Season opening and closure dates are necessary to prevent the potential overharvest of the quotas for the Atlantic shark fishery and advance notice of these dates is necessary to address economic and market considerations of the fishery. The quotas and any adjustments to them are based on methods that the public has already commented on for final rules that published on December 24, 2003 (68 FR 74746), and on May 28, 1999 (64 FR 29090). This notice does not change those methods. Furthermore, the closure dates themselves are calculated based on average catch rates for the fishery and reporting methods by Federal dealers and are established to prevent overfishing. Any under- or overharvest of the quota will be accounted in the quota the following year, as appropriate, consistent with the regulations. This action is required under 50 CFR 635.27(b)(1) and is exempt from review under Executive Order 12866.

Authority: 16 U.S.C. 1801 et seq.

Dated: May 25, 2004.
Alan D. Risenhoover,
Acting Director, Office of Sustainable Fisheries, National Marine Fisheries Service.

[FR Doc. 04-12354 Filed 5-28-04; 8:45 am]

BILLING CODE 3510-22-S